DEPARTMENT OF COMMERCE

International Trade Administration

Open Meeting of the President's Advisory Council on Doing Business in Africa

AGENCY: U.S. Department of Commerce, International Trade Administration.

ACTION: Notice.

SUMMARY: The President's Advisory Council on Doing Business in Africa (PAC-DBIA or Council) will hold a meeting to deliberate and adopt a report commemorating the 10-year anniversary of the establishment of the PAC-DBIA. The PAC-DBIA will present summaries of past recommendations across twelve key topics: Infrastructure, Financing, Technology & Digital Economy, Energy & Environment, Health, Agribusiness & Food-Water Security, Trade Facilitation & Supply-Value Chains, Bilateral Engagement Mechanisms, Public Procurement, Workforce & Skills Development, SMEs & Women Entrepreneurs, and the African Growth and Opportunity Act (AGOA). U.S. Government principals will provide feedback summarizing actions taken by departments, agencies, and programs that have address the PAC-DBIA's recommendations. The PAC-DBIA will also present a review of key fact-finding activities conducted and analytical reports produced over the 10 years of the PAC-DBIA's existence. Finally, the PAC-DBIA will present forward-looking recommendations regarding utilization of the PAC-DBIA and U.S.-Africa commercial engagement in general. The final agenda for the meeting will be posted prior to the meeting on the Council's website at http://trade.gov/pac-dbia.

DATES: December 13, 2024, time to be determined and posted in advance on the PAC-DBIA website at http://trade.gov/pac-dbia.

ADDRESSES: The President's Advisory Council on Doing Business in Africa meeting will be broadcast to the public via live webcast on the internet at http://whitehouse.gov/live.

FOR FURTHER INFORMATION CONTACT: Giancarlo Cavallo, Designated Federal Officer, President's Advisory Council on Doing Business in Africa, Department of Commerce, 1401 Constitution Ave. NW, Room 22004, Washington, DC 20230, telephone: 202-766-8044; email: dbia@trade.gov, Giancarlo.Cavallo@trade.gov.

SUPPLEMENTARY INFORMATION:

Background: The PAC-DBIA was established on August 5, 2014, to advise the President, through the Secretary of Commerce, on strengthening commercial engagement between the United States and Africa. The Council's charter was renewed for a fifth two-year term in December 2023. The Council was established in accordance with the provisions of the Federal Advisory Committee Act, as amended, 5 U.S.C. App.

Exceptional Circumstances: Pursuant to 41 CFR 102-3.150(b), the notice for this meeting is given less than 15 calendar days prior to the meeting because of the exceptional circumstances of the two-year anniversary of the 2022 U.S.-Africa Leaders Summit and Business Forum being on December 14, 2024, and the need for the PAC-DBIA's 10-year review of the Council's input to the U.S. Government to be incorporated into public messaging about progress and accomplishments in U.S.-Africa commercial engagement over the past two years.

Public Participation: Members of the public are invited to submit written statements to the Council for consideration in advance of this meeting by 12:00 p.m. ET on December 13, 2024. Members of the public are encouraged to submit written comments via email to ensure timely receipt, but may submit by either of the following methods:

a. Electronic Submissions

Submit statements electronically to Giancarlo Cavallo, Designated Federal Officer, President's Advisory Council on Doing Business in Africa, via email: dbia@trade.gov.

b. Paper Submissions

Send paper statements to Giancarlo Cavallo, Designated Federal Officer, President's Advisory Council on Doing Business in Africa, Department of Commerce, 1401 Constitution Ave. NW, Room 22004, Washington, DC 20230.

Statements will be provided to PAC-DBIA members in advance of the meeting for consideration and may be posted on the Council website (http://trade.gov/pac-dbia). Any business proprietary information should be clearly designated as such. All statements received, including attachments and other supporting materials, are part of the public record and subject to public disclosure.

Meeting transcripts: Copies of the Council's meeting transcript and a video recording of the meeting will be available within ninety (90) days of the meeting on the Council's website at http://trade.gov/pac-dbia.

Giancarlo Cavallo,
Deputy Director, Office of Africa.

[FR Doc. 2024-29050 Filed 12-10-24; 8:45 am]

BILLING CODE 3510-FP-P